ENVIRONMENTAL PROTECTION AGENCY

[EPA-HQ-OAR-2021-0233; 10022-32-OAR]

Proposed Baseline Approval of the Contact-Handled Transuranic Waste Characterization Program Implemented at the Department of Energy's Savannah River Site

AGENCY: Environmental Protection Agency (EPA).

ACTION: Notice of availability; opening of a 45-day public comment period.

SUMMARY: The Environmental Protection Agency (EPA or the Agency) is announcing the availability of, and soliciting public comments on, the proposed “baseline” approval of the contact-handled (CH) transuranic (TRU) debris waste characterization program implemented by the Central Characterization Program (CCP) at the U.S. Department of Energy's (DOE) Savannah River Site (SRS), in Aiken, South Carolina. The inspections supporting this proposed baseline approval took place from November 30 through December 2, 2020, remotely and at SRS. The EPA identified no findings or concerns and proposes to approve the SRS CH TRU debris waste characterization program.

The EPA's report documenting the inspection results and proposed baseline approval is available for review in the public docket listed in the ADDRESSES section of this document. Until the Agency finalizes its baseline approval decision, the DOE Carlsbad Field Office may not certify SRS' waste characterization program and the site may not ship transuranic waste to the Waste Isolation Pilot Plant for disposal.

DATES: Comments must be received on or before May 28, 2021.

ADDRESSES: Submit your comments, identified by Docket ID No. EPA-HQ-OAR-2021-0233, to the Federal eRulemaking Portal: http://www.regulations.gov. Follow the online instructions for submitting comments. Once submitted, comments cannot be edited or withdrawn. The EPA may publish any comment received to its public docket. Do not electronically submit any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud or other file sharing system). For additional submission methods, the full EPA public comment policy, information about CBI or multimedia submissions, and general guidance on making effective comments, please visit: http://www2.epa.gov/dockets/commenting-epa-dockets.

FOR FURTHER INFORMATION CONTACT: Edward Feltcorn (202-343-9422) or Jerry Ellis (202-564-2766), Radiation Protection Division, Center for Waste Management and Regulations, Mail Code 6608T, U.S. Environmental Protection Agency, 1200 Pennsylvania Avenue, Washington, DC 20460; email addresses: feltcorn.ed@epa.gov or ellis.jerry@epa.gov.

SUPPLEMENTARY INFORMATION:

I. General Information

A. What should I consider as I prepare my comments for EPA?

1. Submitting CBI. Do not submit this information to the EPA through www.regulations.gov or email. Clearly mark the part or all of the information that you claim to be CBI. For CBI information in a disk or CD ROM that you mail to the EPA, mark the outside of the disk or CD ROM as CBI and then identify electronically within the files on the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number EPA-HQ-OAR-2021-0233 and other identifying information (subject heading, Federal Register date and page number).

• Follow directions: The Agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified.

II. Background

The DOE operates the Waste Isolation Pilot Plant (WIPP) facility near Carlsbad in southeastern New Mexico as a deep geologic repository for disposal of defense-related TRU radioactive waste. TRU waste contains more than 100 nanocuries of alpha-emitting TRU isotopes, with half-lives greater than twenty years, per gram of waste. Much of the existing TRU waste, which may also be contaminated with hazardous chemicals, consists of items contaminated during the production of nuclear weapons, such as debris waste (rags, equipment, tools) and solid waste (sludges, soil).

Section 8(d)(2) of the WIPP Land Withdrawal Act (LWA) of 1992 provided that the EPA would certify whether the WIPP facility will comply with the Agency's final disposal regulations, later codified at 40 CFR part 191, subparts B and C. On May 13, 1998, the Agency announced its final compliance certification to the Secretary of Energy (published May 18, 1998; 63 FR 27354), certifying that the WIPP will comply with the disposal regulations. The EPA's certification of the WIPP was subject to various conditions, including conditions concerning quality assurance and waste characterization relating to EPA inspections, evaluations and approvals of the site-specific TRU waste characterization programs to ensure compliance with various EPA regulatory requirements, including those at 40 CFR 194.8, 194.22(a)(2)(i), 194.22(c)(4), 194.24(c)(3) and 194.24(c)(5). In addition, under the LWA, the initial WIPP certification was subject to quinquennial (every five years) recertification by the Agency.

The EPA's inspection and approval processes for waste generator sites, including quality assurance and waste characterization programs, are described at 40 CFR 194.8. The Agency has discretion in establishing technical priorities, the ability to accommodate variation in the site's waste characterization capabilities, and flexibility in scheduling site waste characterization inspections.

In accordance with the conditions in the WIPP compliance certification and relevant regulatory provisions, including 40 CFR 194.8, the EPA conducts “baseline” inspections at waste generator sites, as well as subsequent inspections to confirm continued compliance. As part of a baseline inspection, the EPA evaluates each waste characterization process component (equipment, procedures and personnel training and experience) for adequacy and appropriateness in characterizing TRU waste intended for disposal at the WIPP. During the inspection, the site demonstrates its capabilities to characterize TRU waste(s) and its ability to comply with the regulatory limits and tracking requirements under § 194.24. The baseline inspection can result in approval with limitations and conditions or may require follow-up inspection(s) before approval. Within the approval documentation, the EPA specifies what subsequent program changes should be reported to the Agency, referred to as Tier 1 (T1) or Tier 2 (T2) changes, depending largely on the anticipated effect of the changes on data quality.

A T1 designation requires that the DOE Carlsbad Field Office (CBFO) provide to the EPA documentation on proposed changes to the approved components of an individual site-specific waste characterization process (such as radioassay equipment), which the Agency must approve before the change can be implemented. Tier 2 designated changes are minor changes to the approved components of individual waste characterization processes (such as visual examination procedures) which must also be reported to the EPA, but the site may implement such changes without awaiting Agency approval. After receiving notification of T1 changes, the EPA may choose to inspect the site to evaluate technical adequacy. The inspections conducted to evaluate T1 or T2 changes are under the authority of the EPA's WIPP compliance certification conditions and regulations, including 40 CFR 194.8 and 194.24(h). In addition to follow-up inspections, the EPA may opt to conduct continued compliance inspections at TRU waste sites with a baseline approval under the authority of the WIPP compliance certification regulations, including § 194.24(h).

In accordance with 40 CFR 194.8, the EPA issues a Federal Register notice proposing a baseline compliance decision, dockets the inspection report for public review, and seeks public comment on the proposed decision for a minimum period of 45 days. The report describes the waste characterization processes the Agency inspected at the site, as well as their compliance with 40 CFR 194.8 and 194.24 requirements.

A. Proposed Baseline Decision

This notice announces the EPA's proposed baseline approval of the CH TRU waste characterization program implemented by the CCP at the DOE's SRS in Aiken, South Carolina. In accordance with 40 CFR 194.8(b), the EPA conducted Baseline Inspection No. SRS-CCP-CH-Baseline-2020 on November 30 through December 2, 2020, remotely and at SRS. Upon EPA's final approval, DOE may emplace SRS-CCP CH TRU waste in the WIPP.

SRS was constructed during the early 1950s to produce the basic materials used in the fabrication of nuclear weapons, primarily tritium and plutonium-239, in support of the national defense program. Its main focus has been to develop technical solutions to support national security and to counter national and international threats. Site activities support national needs in the areas of nuclear weapons, nonproliferation and assessments, military technologies and applications, energy and infrastructure assurance, and homeland security.

The EPA had initially approved a CH TRU waste characterization program at SRS in July 2006. The DOE suspended waste characterization activities at SRS in February 2016. On October 1, 2020, the DOE's CBFO informed the Agency that SRS-CCP resumed waste characterization activities; CBFO then notified the EPA that SRS-CCP would be ready for an inspection in November 2020. The EPA then concluded that a new baseline inspection and approval would be necessary.

The EPA is proposing to approve the SRS-CCP waste characterization program implemented to characterize CH TRU waste as documented in the accompanying inspection report. Specifically, the proposed approval includes:

(1) The Acceptable Knowledge process for characterizing SRS CH TRU waste.

(2) The nondestructive assay systems for measuring the radioactivity in SRS CH TRU waste.

(3) The Visual Examination nondestructive examination process to identify waste material parameters (WMPs) and the physical form of SRS CH TRU waste.

(4) The Real-Time Radiography (RTR) nondestructive examination process to identify WMPs and the physical form of SRS CH TRU waste using the RTR2 unit.

Any changes to the waste characterization activities after the date of the baseline inspection must be reported to and, if applicable, approved by the EPA according to Table 1 below. All T1 changes must be submitted for approval before their implementation and will be evaluated by the EPA. Upon approval, the Agency will post the results of the evaluations in the EPA's general WIPP docket at regulations.gov (Docket No. EPA-HQ-OAR-2001-0012). SRS-CCP must submit T2 changes at the end of the fiscal year quarter in which they were implemented.

The EPA's final approval decision regarding the SRS-CCP CH waste characterization program will be conveyed to the DOE separately by letter following the EPA's review of public comments received in response to this notice and proposed approval discussed in the inspection report. This information will be provided through the EPA's WIPP docket provided for this action at regulations.gov (Docket No. EPA-HQ-OAR-2021-0233), in accordance with 40 CFR 194.8(b)(3). A summary table of the status of all WIPP-related EPA inspections can also be found on the EPA website at https://www.epa.gov/radiation/waste-isolation-pilot-plant-wipp-inspections, and any interested party can get these and other WIPP updates via the Agency's WIPP-NEWS website (https://www.epa.gov/radiation/wipp-news). Individuals may also subscribe to the WIPP-NEWS email listserv using the instructions on the website.

Table 1—Tiering of Contact-Handled Transuranic Waste Characterization Processes Implemented by SRS-CCP
[November 30-December 2, 2020, SRS baseline inspection]
Process elements | SRS-CCP CH waste characterization process—T1 changes | SRS-CCP CH waste characterization process—T2 changes *
Acceptable Knowledge | Implementation of payload management | Submission of a list of active SRS-CCP CH AK Experts and Site Project Managers. Notification to the EPA upon availability of or substantive modification ** to:
|  | • AK summary reports (e.g., CCP-AK-SRS-4).
|  | • AK accuracy reports (annually, at a minimum).
|  | • Waste stream profile forms and any associated change notices.
|  | • Site AK procedures requiring CBFO approval.***
Nondestructive Assay | New equipment or substantive physical modifications ** to approved equipment Extension of or changes to approved calibration ranges for approved equipment | Submission of a list of SRS-CCP NDA operators, expert analysts and independent technical reviewers that performed work during the previous quarter. Relocation of the MILCC6 from its current location at SRS.
|  | Notification to the EPA upon substantive modification ** to:
|  | • Software for approved equipment.
|  | • Operating ranges upon CBFO approval.
|  | • Site NDA procedures requiring CBFO approval.***
Visual Examination | Any use of Visual Examination for CH wastes | None.
Real-time Radiography | RTR by any process other than CCP-TP-053 | New RTR equipment operated in accordance with procedure CCP-TP-053.
|  | Relocation of approved RTR8 from its current location at SRS.
|  | Submission of a list of SRS-CCP RTR operators and independent technical reviewers that performed work during the previous quarter.
|  | Notification to the EPA upon substantive modification ** to site RTR procedures requiring CBFO approval.***
* SRS-CCP will report all unmarked T2 changes to the EPA every three months.
** “Substantive modification” refers to a change with the potential to affect SRS-CCP's CH waste characterization processes or documentation of them, excluding changes that are solely related to the environment, safety and health; nuclear safety; or the Resource Conservation and Recovery Act; or that are editorial in nature or are required to address administrative concerns. The EPA may request copies of new references that the DOE adds during a document revision.
*** Site procedures include any procedures used by SRS-CCP personnel that require Carlsbad Field Office (CBFO) approval. This includes SRS-CCP-specific procedures as well as applicable CCP-wide procedures.

III. Availability of the Baseline Inspection Report and Proposed Approval for Public Comment

The EPA has placed the report discussing the results of the inspection of the CH TRU waste characterization program at SRS in the public docket as described in the ADDRESSES section of this document. In accordance with 40 CFR 194.8, the Agency is providing the public 45 days to comment on this and other documents and the EPA's proposed decision to approve the SRS CH TRU waste characterization program. The Agency will accept public comment on this notice and supplemental information as described in Section I above. At the end of the public comment period, the EPA will evaluate all relevant public comments and, as the Agency may deem appropriate and necessary, revise the report and proposed decision or take other appropriate action. If the EPA concludes that there are no unresolved issues after the public comment period, the Agency will issue an approval letter and the final report. The letter of approval will authorize the DOE to use the approved waste characterization processes to characterize CH TRU waste at SRS.

Information on the approval decision will be filed in the official public docket opened for this action on www.regulations.gov, Docket ID No. EPA-HQ-OAR-2021-0233 (as listed in the ADDRESSES section of this document).

Jonathan Edwards,
Director, Office of Radiation and Indoor Air.

[FR Doc. 2021-07485 Filed 4-12-21; 8:45 am]

BILLING CODE 6560-50-P